DEPARTMENT OF ENERGY

Federal Energy Regulatory Commission

Notice of Revocation of Market-Based Rate Authority and Termination of Electric Market-Based Rate Tariff

| Docket Nos.
Electric Quarterly Reports | ER02-2001-020
Mint Energy, LLC | ER10-1110-000
Westmoreland Partners | ER10-2291-001
E-T Global Energy, LLC | ER11-2039-001
BBPC, LLC | ER11-3028-002
Amerigreen Energy, Inc | ER11-3879-001
Mac Trading, Inc | ER11-4447-000
Liberty Hill Power LLC | ER12-1202-001
Imperial Valley Solar Company (IVSC) 1, LLC | ER12-1170-003
Lexington Power & Light, LLC | ER15-455-000
Clear Choice Energy, LLC | ER13-183-000
Energy Discounters, LLC | ER14-663-001
Infinite Energy Corporation | ER14-2421-000
North Energy Power, LLC | ER15-626-000

On January 23, 2020, the Commission issued an order announcing its intent to revoke the market-based rate authority of several public utilities that had failed to file their required Electric Quarterly Reports.¹ The Commission directed those public utilities to file the required Electric Quarterly Reports within 15 days of the date of issuance of the order or face revocation of their authority to sell power at market-based rates and termination of their electric market-based rate tariffs.²

¹ Elec. Quarterly Reports, 170 FERC 61,020 (2020) (January 23 Order).

² Id. at Ordering Paragraph A.

The time period for compliance with the January 23 Order has elapsed. The above-captioned companies failed to file their delinquent Electric Quarterly Reports. The Commission hereby revokes, effective as of the date of issuance of this notice, the market-based rate authority and terminates the electric market-based rate tariff of each of the companies who are named in the caption of this order.

Dated: February 27, 2020.
Nathaniel J. Davis, Sr.,
Deputy Secretary.

[FR Doc. 2020-04447 Filed 3-3-20; 8:45 am]

BILLING CODE 6717-01-P